DEPARTMENT OF ENERGY

Federal Energy Regulatory Commission

[P-619-171]

Pacific Gas and Electric Company, City of Santa Clara, California; Notice of Application Accepted for Filing and Soliciting Comments, Motions To Intervene, and Protests

Take notice that the following hydroelectric application has been filed with the Commission and is available for public inspection.

a. Type of Application: Non-capacity amendment of license..

b. Project No.: 619-171.

c. Date Filed: November 24, 2020.

d. Applicants: Pacific Gas and Electric Company, and City of Santa Clara, California.

e. Name of Project: Bucks Creek Hydroelectric Project.

f. Location: The project is located on the North Fork Feather River and Bucks and Grizzly creeks in Plumas County, California.

g. Filed Pursuant to: Federal Power Act, 16 U.S.C. 791 (a)-825(r).

h. Applicant Contacts: Ms. Elisabeth Rossi, Pacific Gas & Electric Company, 245 Market Street, San Francisco, CA 94105, (415) 531-5186, Mr. Chris Karwick, Silicon Valley Power/City of Santa Clara, 1705 Martin Avenue, Santa Clara, CA 95054, (408) 615-6554.

i. FERC Contact: Mr. Korede Olagbegi, (202) 502-6268, Korede.Olagbegi@ferc.gov.

j. Deadline for filing comments, motions to intervene, and protests is 30 days from the issuance of this notice. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, you may send a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-619-171. Comments emailed to Commission staff are not considered part of the Commission record.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Request: The applicants propose to reconnect the Grizzly Powerhouse to the grid. The Grizzly Powerhouse connects to the grid at Pacific Gas and Electric Company's (PG&E) Caribou-Palermo transmission line, via the project's 115-kV transmission line referred to as the Grizzly Tap. In November 2018, the Caribou-Palermo transmission line was de-energized as a result of damage from the Camp Fire, forcing the Grizzly Powerhouse out of service. Following the Camp Fire, PG&E committed to permanently de-energizing the Caribou-Palermo line. The applicants propose to reconnect the Grizzly Powerhouse to the grid by removing the connection from the Caribou-Palermo line and interconnecting the Grizzly Tap at the 230-kV Bucks Creek-Cresta transmission line instead, which begins in the Bucks Creek substation yard (substation yard), and is part of the project.

The applicants propose a 3-phase process in order to facilitate the reconnection to the grid. In the first phase, which it has already completed, the applicants removed a 900-foot-long section of the Grizzly Tap, spanning from the substation yard to the Caribou-Palermo line. The applicants report that they did not engage in any ground-disturbing activity to remove the section. The applicants state that they are currently finalizing the design of the reconnection, but propose in the second and third phase to reinforce an existing access bridge with steel plates to support the weight of vehicles transporting new electrical equipment, remove a lattice tower in the substation yard, and to reconfigure the substation yard, largely to incorporate a new transformer, so that the 115-kV Grizzly Tap may be stepped up to 230-kV and connected to the existing Bucks Creek-Cresta 230-kV line. The applicants state that all activities associated with its non-capacity amendment application would occur within the existing footprint of the previously disturbed areas of the substation yard, the adjacent parking areas and roads, and the Grizzly Tap transmission right of way, and included an Exhibit E (environmental assessment) along with the application.

l. Locations of the Applications: The Commission provides all interested persons an opportunity to view and/or print the contents of this document via the internet through the Commission's website at http://www.ferc.gov/docs-filing/elibrary.asp. Enter the docket number excluding the last three digits in the docket number field to access the document. You may also register online at http://www.ferc.gov/docs-filing/esubscription.asp to be notified via email of new filings and issuances related to this or other pending projects. Agencies may obtain copies of the application directly from the applicants. At this time, the Commission has suspended access to the Commission's Public Reference Room due to the proclamation declaring a National Emergency concerning the Novel Coronavirus Disease (COVID-19), issued by the President on March 13, 2020. For assistance, contact FERC at FERCOnlineSupport@ferc.gov or call toll free, (866) 208-3676 or TTY, (202) 502-8659.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title COMMENTS, MOTION TO INTERVENE, or PROTEST as applicable; (2) set forth in the heading the name of the applicant and the project number of the application to which the filing responds; (3) furnish the name, address, and telephone number of the person protesting or intervening; and (4) otherwise comply with the requirements of 18 CFR 385.2001 through 385.2005.

All comments, motions to intervene, or protests must set forth their evidentiary basis. A copy of all other filings in reference to this application must be accompanied by proof of service on all persons listed in the service list prepared by the Commission in this proceeding, in accordance with 18 CFR 385.2010.

Dated: December 3, 2020.
Kimberly D. Bose,
Secretary.

[FR Doc. 2020-27034 Filed 12-8-20; 8:45 am]

BILLING CODE 6717-01-P